NUCLEAR REGULATORY COMMISSION

[NRC-2017-0091]

Regulatory Analysis Guidelines

AGENCY: Nuclear Regulatory Commission.

ACTION: Draft NUREG appendices; request for comment.

SUMMARY: The U.S. Nuclear Regulatory Commission (NRC) is issuing for public comment two draft appendices to NUREG/BR-0058, Revision 5, “Regulatory Analysis Guidelines of the U.S. Nuclear Regulatory Commission.” Guidance in these draft appendices provides information that the staff will use when performing cost-benefit analyses in support of regulatory decisions. Section II of this document describes each draft appendix.

DATES: Submit comments by September 6, 2022. Comments received after this date will be considered if it is practical to do so, but the NRC can only ensure the consideration of comments received before this date.

ADDRESSES: You may submit comments by any of the following methods; however, the NRC encourages electronic comment submission through the Federal rulemaking website:

• Federal rulemaking website: Go to https://www.regulations.gov and search for Docket ID NRC-2017-0091. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555 -0001, ATTN: Program Management, Announcements and Editing Staff.

For additional directions on obtaining information and submitting comments, see “Obtaining Information and Submitting Comments” in the SUPPLEMENTARY INFORMATION section of this document.

FOR FURTHER INFORMATION CONTACT: Pamela Noto, Office of Nuclear Material Safety and Safeguards, U.S. Nuclear Regulatory Commission, Washington, DC 20555 -0001; telephone: 301-415-6795; email: Pamela.Noto@nrc.gov.

SUPPLEMENTARY INFORMATION:

I. Obtaining Information and Submitting Comments

A. Obtaining Information

Please refer to Docket ID NRC-2017-0091 when contacting the NRC about the availability of information for this action. You may obtain publicly available information related to this action by any of the following methods:

• Federal Rulemaking Website: Go to https://www.regulations.gov and search for Docket ID NRC-2017-0091.

• NRC Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC PDR: You may examine and purchase copies of public documents, by appointment, at the NRC's PDR, Room P1 B35, One White Flint North, 11555 Rockville Pike, Rockville, Maryland 20852. To make an appointment to visit the PDR, please send an email to PDR. Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2017-0091 in your comment submission.

The NRC cautions you not to include identifying or contact information that you do not want to be publicly disclosed in your comment submission. The NRC will post all comment submissions are posted at https://www.regulations.gov as well as enter the comment submission into ADAMS. The NRC does not routinely edit comment submissions to remove identifying or contact information.

If you are requesting or aggregating comments from other persons for submission to the NRC, then you should inform those persons not to include identifying or contact information they do not want to be disclosed in the comment submission. Your request should state that the NRC does not routinely edit comment submissions to remove such information before making the comment submissions available to the public or entering the comment in ADAMS.

II. Discussion

Appendix K, “Monetary Valuation of Nonfatal Cancer Risk for Use in Cost-Benefit Analysis,” to NUREG/BR-0058 provides guidance for valuing morbidity risks from radiation exposure for use in cost-benefit analyses at the NRC. This appendix includes (1) evidence-based estimates for the value of nonfatal cancers, (2) an overview of the technical approach, assumptions, and data sources used to develop these estimates, (3) a discussion of the uncertainties, and (4) guidance on how to apply these estimates in cost-benefit analyses to capture averted health risks from changes in radiation exposure. This valuation method is analogous to the dollar per person-rem conversion factor for fatality risks detailed in NUREG-1530, Revision 1, “Reassessment of NRC's Dollar Per Person-Rem Conversion Factor Policy,” issued February 2022. The evaluation of morbidity impacts of nonfatal cancers will provide a more complete and realistic treatment of potential health effects due to radiation exposure in NRC cost-benefit analyses.

Appendix L, “Replacement Energy Costs,” provides guidance on how to apply information in NUREG-2242, “Replacement Energy Cost Estimates for Nuclear Power Plants: 2020-2030,” issued June 2021, to estimate replacement energy costs associated with regulatory actions that may result in the temporary or permanent loss of electrical power generation from a nuclear reactor. The term “replacement energy cost” refers to the change in wholesale power prices that could result when a reactor unit is taken offline. This appendix presents methods and examples showing how to use the information in NUREG-2242 to (1) quantify replacement energy costs in cost-benefit analyses, including the calculation of shutdown costs related to installing or implementing mandated safety changes, and (2) estimate present value of averted onsite costs due to changes in reactor accident frequencies.

The NRC staff plans to hold a public information meeting with a question and answer session to discuss these draft appendices to NUREG/BR-0058, Revision 5. The public meeting will be noticed on the NRC's public meeting website at least 10 calendar days before the meeting. Members of the public should monitor the NRC's public meeting website at https://www.nrc.gov/pmns/mtg for additional information.

III. Availability of Documents

The documents identified in the following table are available to interested persons as indicated.

Document | ADAMS accession No.
Draft NUREG/BR-0058, Revision 5, Appendix K, “Monetary Valuation of Nonfatal Cancer Risk for Use in Cost-Benefit Analysis” | ML22175A202.
Draft NUREG/BR-0058, Revision 5, Appendix L, “Replacement Energy Costs” | ML22175A203.
SECY-20-0008, “NUREG/BR-0058, Revision 5, `Regulatory Analysis Guidelines of the U.S. Nuclear Regulatory Commission' ” | ML19261A277 (Package).
SECY-22-0028, “Appendices to NUREG/BR-0058, Revision 5, `Regulatory Analysis Guidelines of the U.S. Nuclear Regulatory Commission' ” | ML21228A118 (Package).
NUREG-2242, “Replacement Energy Cost Estimates for Nuclear Power Plants: 2020-2030” | ML21174A176.
NUREG-1530, Revision 1, “Reassessment of NRC's Dollar Per Person-Rem Conversion Factor Policy” | ML22053A025.

Dated: June 29, 2022.
For the Nuclear Regulatory Commission.
John R. Tappert,
Director, Division of Rulemaking, Environmental, and Financial Support, Office of Nuclear Material Safety and Safeguards.

[FR Doc. 2022-14287 Filed 7-5-22; 8:45 am]

BILLING CODE 7590-01-P